DEPARTMENT OF TRANSPORTATION

Federal Aviation Administration

14 CFR Part 39

[Docket No. FAA-2021-0141; Project Identifier MCAI-2020-01162-T; Amendment 39-21669; AD 2021-16-07]

RIN 2120-AA64

Airworthiness Directives; Airbus Defense and Space S.A. (Formerly Known as Construcciones Aeronauticas, S.A.) Airplanes

AGENCY: Federal Aviation Administration (FAA), DOT.

ACTION: Final rule.

SUMMARY: The FAA is adopting a new airworthiness directive (AD) for certain Airbus Defense and Space S.A. Model C-212-CB, C-212-CC, C-212-CD, C-212-CE, C-212-CF, C-212-DE, and C-212-DF airplanes. This AD was prompted by a report of cracks on the left-hand (LH) and right-hand (RH) side fuselage skin and on a certain frame underneath the skin, near the leading edge of the wing. This AD requires repetitive inspections of the LH and RH side center wing fairings at a certain frame, around the wing leading edge for discrepancies (cracks), and repair if necessary, as specified in a European Union Aviation Safety Agency (EASA) AD, which is incorporated by reference. The FAA is issuing this AD to address the unsafe condition on these products.

DATES: This AD is effective September 28, 2021.

The Director of the Federal Register approved the incorporation by reference of a certain publication listed in this AD as of September 28, 2021.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2021-0141.

Examining the AD Docket

You may examine the AD docket on the internet at https://www.regulations.gov by searching for and locating Docket No. FAA-2021-0141; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Shahram Daneshmandi, Aerospace Engineer, Large Aircraft Section, International Validation Branch, FAA, 2200 South 216th St., Des Moines, WA 98198; phone and fax: 206-231-3220; email: Shahram.Daneshmandi@faa.gov.

SUPPLEMENTARY INFORMATION:

Background

EASA, which is the Technical Agent for the Member States of the European Union, issued EASA AD 2020-0182, dated August 13, 2020 (EASA AD 2020-0182) (also referred to as the Mandatory Continuing Airworthiness Information, or the MCAI), to correct an unsafe condition for certain Airbus Defense and Space S.A Model C-212-CB, C-212-CC, C-212-CD, C-212-CE, C-212-CF, C-212-DD, C-212-DE, C-212-DF, C-212-EE and C-212-VA airplanes. Model C-212-DD, C-212-EE, and C-212-VA airplanes are not certificated by the FAA and are not included on the U.S. type certificate data sheet; this AD therefore does not include those airplanes in the applicability.

The FAA issued a notice of proposed rulemaking (NPRM) to amend 14 CFR part 39 by adding an AD that would apply to certain Airbus Defense and Space S.A. Model C-212-CB, C-212-CC, C-212-CD, C-212-CE, C-212-CF, C-212-DE, and C-212-DF airplanes. The NPRM was published in the Federal Register on March 11, 2021 (86 FR 13841). The NPRM was prompted by a report of cracks on the LH and RH side fuselage skin and on frame (FR) 5 underneath the skin, near the leading edge of the wing. The NPRM proposed to require repetitive inspections of the LH and RH side center wing fairings at FR 5, around the wing leading edge for discrepancies (cracks), and repair if necessary, as specified in EASA AD 2020-0182.

The FAA is issuing this AD to address cracks on the LH and RH side fuselage skin and on FR 5 underneath the skin, near the leading edge of the wing, which could affect the structural integrity of the airplane. See the MCAI for additional background information.

Comments

The FAA gave the public the opportunity to participate in developing this final rule. The following presents the comments received on the NPRM and the FAA's response.

Request To Allow Special Flight Permits

Ryan Air reported that it began detecting and repairing fuselage skin cracks on its fleet in 2018, and no new cracks have since been detected in more than 10,000 flight hours. Assuming the cracking did not all occur at the same time, Ryan Air questioned why the proposed AD would require repair before further flight. Ryan Air recommended that the proposed AD be revised to allow flying the airplane to a location where repairs can be made after finding cracks in this area.

The FAA notes that 14 CFR 39.23 allows flight to a repair facility for every AD, if the operations specifications (ops specs) for a particular operator give that authority, unless they are specifically prohibited or limited in an AD. Any operator who does not have the authority in their ops specs may contact their local FAA Flight Standards District Office to receive a special flight permit. No change to the AD is necessary as a result of this comment.

Request To Allow Certain Approvals

Ryan Air recommended that the proposed AD be revised to allow repairs approved by a part 25 structures designated engineering representative (DER). Ryan Air stated that repair approvals from Airbus Engineering and the FAA have taken four weeks or longer. Ryan Air asserted that grounding an airplane for more than a month—for a four-day repair—would be an unreasonable economic burden on affected operators, who are mostly small business owners.

The FAA disagrees with this request. This AD allows required repairs to be approved only by the FAA, EASA, or Airbus Defense and Space S.A.'s EASA Design Organization Approval (DOA). For approval by a part 25 structures DER for the corrective repair required by this AD, an operator must first request approval of an alternative method of compliance (AMOC) in accordance with the procedures specified in paragraph (j)(1) of this AD. The FAA has not changed this AD as a result of this comment.

Conclusion

The FAA reviewed the relevant data, considered the comment received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2020-0182 describes procedures for repetitive detailed visual inspections of the LH and RH side center wing fairings at FR 5, around the wing leading edge for discrepancies (cracks) and repair. This material is reasonably available because the interested parties have access to it through their normal course of business or by the means identified in the ADDRESSES section.

Costs of Compliance

The FAA estimates that this AD affects 45 airplanes of U.S. registry. The FAA estimates the following costs to comply with this AD:

Estimated Costs for Required Actions
Labor cost | Parts cost | Cost per product | Cost on U.S. operators
3 work-hours @$85 per hour = $255 | $0 | $255 | $11,475

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-16-07 Airbus Defense and Space S.A. (Formerly Known as Construcciones Aeronauticas, S.A.): Amendment 39-21669; Docket No. FAA-2021-0141; Project Identifier MCAI-2020-01162-T.

(a) Effective Date

This airworthiness directive (AD) is effective September 28, 2021.

(b) Affected ADs

None.

(c) Applicability

This AD applies to Airbus Defense and Space S.A. (formerly known as Construcciones Aeronauticas, S.A.) Model C-212-CB, C-212-CC, C-212-CD, C-212-CE, C-212-CF, C-212-DE, and C-212-DF airplanes, certificated in any category, as identified in European Union Aviation Safety Agency (EASA) AD 2020-0182, dated August 13, 2020 (EASA AD 2020-0182).

(d) Subject

Air Transport Association (ATA) of America Code 53, Fuselage.

(e) Reason

This AD was prompted by a report of cracks on the left-hand (LH) and right-hand (RH) side fuselage skin and on frame (FR) 5 underneath the skin, near the leading edge of the wing. The FAA is issuing this AD to address cracks on the LH and RH side fuselage skin and on FR 5 underneath the skin, near the leading edge of the wing, which could affect the structural integrity of the airplane.

(f) Compliance

Comply with this AD within the compliance times specified, unless already done.

(g) Requirements

Except as specified in paragraph (h) of this AD: Comply with all required actions and compliance times specified in, and in accordance with, EASA AD 2020-0182.

(h) Exceptions to EASA AD 2020-0182

(1) Where EASA AD 2020-0182 refers to its effective date, this AD requires using the effective date of this AD.

(2) The “Remarks” section of EASA AD 2020-0182 does not apply to this AD.

(3) Where paragraph (2) of EASA AD 2020-0182 specifies to “contact Airbus D&S for approved instructions and accomplish those instructions accordingly” if discrepancies are detected, for this AD if any cracking is detected, the cracking must be repaired before further flight using a method approved by the Manager, Large Aircraft Section, International Validation Branch, FAA; or EASA; or Airbus Defense and Space S.A.'s EASA Design Organization Approval (DOA). If approved by the DOA, the approval must include the DOA-authorized signature.

(i) No Reporting Requirement

Although the service information referenced in EASA AD 2020-0182 specifies to submit certain information to the manufacturer in case of no finding, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus Defense and Space S.A's EASA DOA. If approved by the DOA, the approval must include the DOA-authorized signature.

(k) Related Information

For more information about this AD, contact Shahram Daneshmandi, Aerospace Engineer, Large Aircraft Section, International Validation Branch, FAA, 2200 South 216th St., Des Moines, WA 98198; phone and fax: 206-231-3220; email: Shahram.Daneshmandi@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0182, dated August 13, 2020.

(ii) [Reserved]

(3) For EASA AD 2020-0182, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2021-0141.

(5) You may view this material that is incorporated by reference at the National Archives and Records Administration (NARA). For information on the availability of this material at NARA, email fr.inspection@nara.gov, or go to https://www.archives.gov/federal-register/cfr/ibr-locations.html.

Issued on July 23, 2021.
Lance T. Gant,
Director, Compliance & Airworthiness Division, Aircraft Certification Service.

[FR Doc. 2021-18082 Filed 8-23-21; 8:45 am]

BILLING CODE 4910-13-P